INTERNATIONAL TRADE COMMISSION

[Investigation No. 337-TA-440]

In the Matter of Certain 4-Androstenediol; Request for Written Submissions on the Public Interest and Bonding

AGENCY: U.S. International Trade Commission.

ACTION: Notice.

SUMMARY: Notice is hereby given that the U.S. International Trade Commission is requesting briefing on the public interest and the appropriate bond during the period of Presidential review, if a limited exclusion order is issued in the above-captioned investigation. The Commission previously found the only named respondent in the investigation to be in default.

FOR FURTHER INFORMATION CONTACT: Jean Jackson, Esq., Office of the General Counsel, U.S. International Trade Commission, 500 E Street, S.W., Washington, D.C. 20436, telephone 202-205-3104. Copies of all nonconfidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server (http://www.usitc.gov). The public record for this investigation may be viewed on the Commission's electronic docket (EDIS-ON-LINE) at http://dockets.usitc.gov/eol.public. Hearing-impaired persons are advised that information on the matter can be obtained by contacting the Commission's TDD terminal on 202-205-1810.

SUPPLEMENTARY INFORMATION: The Commission instituted this investigation, which concerns allegations of unfair acts in violation of section 337 of the Tariff Act of 1930 in the importation and sale of certain 4-androstenediol (a nutritional supplement used by body-builders) on December 19, 2000. 65 FR 79424. On April 19, 2001, complainant LPJ, Inc. of Seymour, Illinois (LPJ) moved pursuant to 19 U.S.C. 1337(a)(1) and 19 CFR 210.16 for an order directing the only respondent, Changzhou Huabang Pharmaceutical Group, Ltd. (Changzhou), to show cause why it should not be found in default for failure to respond to LPJ's complaint. The Commission investigative attorney (IA) supported LPJ's motion. The presiding administrative law judge (ALJ) (Judge Luckern) issued Order No. 8 on April 30, 2001, directing Changzhou to show cause why it should not be found in default. Changzhou did not respond to that order.

On May 24, 2001, the ALJ issued an ID finding Changzhou in default pursuant to 19 CFR 210.16, and ruling that it had waived its rights to appear, to be served with documents, and to contest the allegations at issue in the investigation. No petitions for review of the ID were filed. The Commission decided not to review the ID on June 8, 2001, 66 FR 32374 (June 14, 2001), thereby allowing it to become the Commission's final determination under 19 CFR 210.42. On June 25, 2001, pursuant to 19 U.S.C. 1337(g)(1) and 19 CFR 210.16(c)(1), complainant LPJ filed a declaration seeking limited relief against the defaulting respondent. In its declaration, LPJ requested that the Commission issue a limited exclusion order against Changzhou.

Section 337(g)(1), 19 U.S.C. (g)(1), authorizes the Commission to order limited relief against a respondent found in default unless, after consideration of public interest factors, it finds that such relief should not issue. In this investigation, Changzhou has been found in default and LPJ has requested issuance of a limited exclusion order that would deny entry to certain 4-androstenediol manufactured by Changzhou. If the Commission decides to issue a limited exclusion order against Changzhou, it must consider what the amount of the bond should be during the Presidential review period.

In connection with the final disposition of this investigation, the only potential remedy is an order that could result in the exclusion of 4-androstenediol manufactured by Changzhou from entry into the United States. Accordingly, the Commission is interested in receiving written submissions that address whether such an order should be issued. If a party seeks exclusion of an article from entry into the United States for purposes other than entry for consumption, it should so indicate and provide information establishing that activities involving other types of entry either are adversely affecting it or likely to do so. For background, see In the Matter of Certain Devices for Connecting Computers via Telephone Lines, Inv. No. 337-TA-360, USITC Pub. No. 2843 (December 1994) (Commission Opinion).

If the Commission contemplates a remedy, it must consider the effects of that remedy upon the public interest. The factors the Commission will consider in this investigation include the effect that a limited exclusion order would have on (1) the public health and welfare, (2) competitive conditions in the U.S. economy, (3) U.S. production of articles that are like or directly competitive with those that are subject to investigation, and (4) U.S. consumers. The Commission is therefore interested in receiving written submissions that address the aforementioned public interest factors in the context of this investigation.

If the Commission issues a limited exclusion order, the President has 60 days to approve or disapprove the Commission's action. During this period, the subject articles would be entitled to enter the United States under a bond, in an amount determined by the Commission and prescribed by the Secretary of the Treasury. The Commission is therefore interested in receiving submissions concerning the amount of the bond that should be imposed.

Written Submissions: The parties to the investigation, interested government agencies, and any other interested parties are encouraged to file written submissions on remedy, the public interest, and bonding. Complainant and the Commission investigative attorney are also requested to submit proposed limited exclusion orders for the Commission's consideration. The written submissions and proposed limited exclusion orders must be filed no later than close of business on July 16, 2001. Reply submissions, if any, must be filed no later than the close of business on July 23, 2001. No further submissions on these issues will be permitted unless otherwise ordered by the Commission.

Persons filing written submissions must file with the Office of the Secretary the original document and 14 true copies thereof on or before the deadlines stated above. Any person desiring to submit a document (or portion thereof) to the Commission in confidence must request confidential treatment unless the information has already been granted such treatment during the proceedings. All such requests should be directed to the Secretary of the Commission and must include a full statement of the reasons why the Commission should grant such treatment. See section 201.6 of the Commission's Rules of Practice and Procedure, 19 CFR 201.6. Documents for which confidential treatment by the Commission is sought will be treated accordingly. All nonconfidential written submissions will be available for public inspection at the Office of the Secretary.

This action is taken under the authority of section 337 of the Tariff Act of 1930, 19 U.S.C. 1337, and section 210.16 of the Commission's Rules of Practice and Procedure, 19 CFR 210.16.

By order of the Commission.
Issued: July 2, 2001.
Donna R. Koehnke,
Secretary.

[FR Doc. 01-16991 Filed 7-6-01; 8:45 am]

BILLING CODE 7020-01-P